ENVIRONMENTAL PROTECTION AGENCY

40 CFR Part 2

[FRL-6933-1]

Public Information and Confidentiality: Rescheduling of a Previously-Announced Public Meeting

AGENCY: Environmental Protection Agency (EPA).

ACTION: Proposed rule.

SUMMARY: EPA is rescheduling the public meeting on its advance notice of proposed rulemaking (ANPRM) and potential revision of the confidential business information (CBI) regulations scheduled for January 18, 2001, as advertised in the December 21, 2000 Federal Register (65 FR 80394).

DATES: This meeting has been rescheduled for Wednesday, March 7, 2001 from 9 a.m. to 4:30 p.m. in the EPA Auditorium, 401 M Street, SW., Washington, DC. The meeting has been rescheduled based on requests from the public to allow additional time for stakeholder participation and to avoid potential travel difficulties in the Washington, D.C. area the week of January 20, 2001.

FOR FURTHER INFORMATION CONTACT: Alan Margolis, Office of Information Collection, Office of Environmental Information, U.S. Environmental Protection Agency, 1200 Pennsylvania Ave., NW, Mail Code 2822, Washington, DC 20460; Phone, 202-260-9329; Fax, 202-401-4544; Email, margolis.alan@epa.gov.

Dated: January 8, 2001.
Mark Luttner,
Director, Office of Information Collection.

[FR Doc. 01-1178 Filed 1-11-01; 8:45 am]

BILLING CODE 6560-50-P